DEPARTMENT OF LABOR

Employee Benefits Security Administration

Proposed Extension of Information Collection; Comment Request

ACTION: Notice.

SUMMARY: The Department of Labor (the Department), as part of its continuing effort to reduce paperwork and respondent burden, conducts a preclearance consultation program to provide the general public and Federal agencies with an opportunity to comment on proposed and continuing collections of information in accordance with the Paperwork Reduction Act of 1995 (PRA 95) (44 U.S.C. 3506(c)(2)(A)). This helps to ensure that requested data can be provided in the desired format, reporting burden (time and financial resources) is minimized, collection instruments are clearly understood, and the impact of collection requirements on respondents can be properly assessed.

Currently, the Employee Benefits Security Administration is soliciting comments concerning the information collection entitled Annual Report for Multiple Employer Welfare Arrangements (Form M-1) contained in the Department's regulation at 29 CFR 2520.101-2, Multiple Employer Welfare Arrangements and Certain Other Entities that Offer or Provide Medical Care to the Employees of Two or More Employers. A copy of the ICR may be obtained by contacting the office listed in the addresses section of this notice.

DATES: Written comments must be submitted to the office shown in the ADDRESSES section below on or before November 3, 2003.

ADDRESSES: Gerald B. Lindrew, Office of Policy and Research, U.S. Department of Labor, Employee Benefits Security Administration, 200 Constitution Avenue, NW., Room N-5647, Washington, DC 20210. Telephone: (202) 693-8410; Fax: (202) 219-5333. These are not toll-free numbers.

SUPPLEMENTARY INFORMATION:

I. Background

The Health Insurance Portability and Accountability Act of 1996 (HIPAA), codified as part 7 of Title I of the Employee Retirement Security Act of 1974 (ERISA), was enacted to improve the portability and continuity of health care coverage for participants and beneficiaries of group health plans. In the interest of assuring compliance with part 7, HIPAA also added section 101(g) to ERISA permitting the Secretary of Labor (the Secretary) to require multiple employer welfare arrangements (MEWA) as defined in section 3(40) of ERISA to report to the Secretary in such form and manner as the Secretary might determine. To assist MEWAs and other entities with reporting, the Department published a final rule providing guidance for determining compliance and a form to be used for the annual report. Form M-1, the information collection provision of the regulation, is required to be filed by MEWAs and by other entities described in the regulation. The purpose of the information collection is to provide the Secretary with information to determine the extent to which the requirements of part 7 of ERISA are being carried out in connection with the provision of benefits consisting of medical care.

II. Desired Focus of Comments

The Department is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. Current Action

This notice requests comments on the extension of the information collection request (ICR) included in the regulation, Form M-1. The Department is not proposing or implementing changes to the existing ICR at this time.

Type of Review: Extension of a currently approved collection of information.

Agency: Employee Benefits Security Administration, Department of Labor.

Titles: Annual Report for Multiple Employer Welfare Arrangements and Certain Entities Claiming Exception (Form M-1).

OMB Number: 1210-0116.

Affected Public: Individuals or households; Business or other for-profit; Not-for-profit institutions.

Respondents: 741.

Frequency of Response: Annually.

Responses: 3,718.

Estimated Total Burden Hours: 2,336.

Total Burden Cost (Operating and Maintenance): $143,650.

Comments submitted in response to this notice will be summarized and/or included in the request for OMB approval of the ICR; they will also become a matter of public record.

Dated: August 28, 2003.
Gerald B. Lindrew,
Deputy Director, Office of Policy and Research, Employee Benefits Security Administration.

[FR Doc. 03-22501 Filed 9-3-03; 8:45 am]

BILLING CODE 4510-29-M